DEPARTMENT OF TRANSPORTATION

Federal Maritime Commission

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier and Ocean Freight Forwarder Transportation Intermediary Applicants

Midacomp Corp., 2841 NW. 107th Ave., Miami, FL 33172. Officer: Fernando J. Diaz, Secretary/Director, (Qualifying Individual).

Unique Logistics International (ATL) Inc., 510 Plaza Drive, Ste. 2290, Atlanta, GA 30349, Officer: J.M. David Hickmott, Member/Manager, (Qualifying Individual).

Dated: September 11, 2009.
Karen V. Gregory,
Secretary.

[FR Doc. E9-22305 Filed 9-15-09; 8:45 am]

BILLING CODE 6730-01-P